DEPARTMENT OF JUSTICE

Notice of Lodging of Consent Decree Pursuant to the Clean Water Act

In accordance with Departmental Policy, 28 CFR 50.7, notice is hereby given that a proposed Consent Decree in United States of America v. Clatsop County (D. Or.), CV-04-42-HU, was lodged in the United States District Court for the District of Oregon on January 14, 2004.

The proposed Consent Decree concerns a complaint filed by the United States against Clatsop County, Oregon, pursuant to Clean Water Act Section 309, 33 U.S.C. 1319, to obtain injunctive relief from and impose a civil penalty against the Defendant for violating the Clean Water Act by discharging pollutants without a permit into waters of the United States. The proposed Consent Decree resolves these allegations by requiring the Defendant to conduct appropriate restoration and mitigation and to pay a civil penalty. The Consent Decree also provides for the Defendant to perform supplemental environmental projects.

The Department of Justice will accept written comments relating to this proposed Consent Decree for thirty (30) days from the date of publication of this Notice. Please address comments to David Kaplan, Senior Trial Counsel, United States Department of Justice, Environmental Defense Section, P.O. Box 23986, Washington, DC 20026-3986, and refer to United States of America v. Clatsop County, DJ Reference No. 90-5-1-1-16817.

The proposed Consent Decree may be examined at the Clerk's Office, United States District Court for the District of Oregon (Portland), Mark O. Hatfield U.S. Courthouse, 1000 SW. Third Avenue, Portland, Oregon. In addition, the proposed Consent Decree may be viewed at http://www.usdoj.gov/enrd/open.html.

Russell Young,
Assistant Chief, Environmental Defense Section, Environment and Natural Resources Division, United States Department of Justice.

[FR Doc. 04-1417 Filed 1-22-04; 8:45 am]

BILLING CODE 4410-15-M